DEPARTMENT OF THE INTERIOR

Fish and Wildlife Service

[FWS-R8-ES-2015-N229; FXES11130000-156-FF08E00000]

Endangered and Threatened Wildlife and Plants; Draft Recovery Plan for the Central California Distinct Population Segment of the California Tiger Salamander (Ambystoma californiense)

AGENCY: Fish and Wildlife Service, Interior.

ACTION: Notice of document availability.

SUMMARY: We, the U.S. Fish and Wildlife Service, announce the availability of the Draft Recovery Plan for the Central California Distinct Population Segment of the California tiger salamander (Ambystoma californiense) (Central California tiger salamander) for public review and comment. This draft recovery plan includes delisting objectives and criteria, and specific actions necessary to remove the species from the Federal Lists of Endangered and Threatened Wildlife and Plants.

DATES: We must receive any comments on this revised draft recovery plan on or before May 10, 2016.

ADDRESSES: You may obtain a copy of this draft recovery plan from our Web site at http://www.fws.gov/endangered/species/recovery-plans.html. Alternatively, you may contact the Sacramento Fish and Wildlife Office, U.S. Fish and Wildlife Service, 2800 Cottage Way, Suite W-2605, Sacramento, CA 95825 (telephone 916-414-6700).

FOR FURTHER INFORMATION CONTACT: Jennifer Norris, Field Supervisor, at the above street address or telephone number (see ADDRESSES).

SUPPLEMENTARY INFORMATION:

Background

Recovery of endangered or threatened animals and plants to the point where they are again secure, self-sustaining members of their ecosystems is a primary goal of our endangered species program and the Endangered Species Act of 1973, as amended (Act; 16 U.S.C. 1531 et seq.). Recovery means improvement of the status of listed species to the point at which listing is no longer appropriate under the criteria specified in section 4(a)(1) of the Act. The Act requires the development of recovery plans for listed species, unless such a plan would not promote the conservation of a particular species.

The Central California tiger salamander (Ambystoma californiense) was federally listed as a threatened species on August 4, 2004 (69 FR 47212). Central California tiger salamanders are endemic to the San Joaquin-Sacramento River valleys, bordering foothills, and coastal valleys of Central California and inhabit primarily annual grasslands and open woodlands. California tiger salamanders spend the majority of their lives underground in small mammal burrows, although ponds play an equally important role because they are required for breeding. Breeding sites are typically fish-free ephemeral ponds that fill during winter and dry by summer. Historically, California tiger salamanders utilized vernal pools as breeding sites, but the species now also commonly breeds in livestock ponds.

The loss and subsequent fragmentation of habitat is the primary threat to the Central California tiger salamander. Habitat loss has primarily occurred from urban expansion and agricultural conversion. Habitat fragmentation restricts dispersal and isolates populations of the Central California tiger salamander, thereby increasing the likelihood of inbreeding, decreasing fitness, and reducing genetic diversity. In addition to habitat loss, Central California tiger salamanders are subject to the cumulative effects of a number of other existing and potential threats, including: Hybridization with non-native barred tiger salamanders, road mortality, climate change, contaminants, disease, and predation by non-native species.

Recovery Plan Goals

The purpose of a recovery plan is to provide a framework for the recovery of species so that protection under the Act is no longer necessary. A recovery plan includes scientific information about the species and provides criteria that enable us to gauge whether downlisting or delisting the species is warranted. Furthermore, recovery plans help guide our recovery efforts by describing actions we consider necessary for each species' conservation and by estimating time and costs for implementing needed recovery measures.

The goal of this draft recovery plan is to improve the status of Central California tiger salamander so that it can be delisted. To meet the recovery goal of delisting, the following objectives have been identified:

1. Secure self-sustaining populations of Central California tiger salamander throughout their full range, ensuring conservation of genetic variability and diverse habitat types (e.g., variation in elevation and precipitation).

2. Ameliorate or eliminate the threats that caused the species to be listed, and any future threats.

3. Restore and conserve a healthy ecosystem supportive of Central California tiger salamander populations.

The strategy to recover the Central California tiger salamander focuses on alleviating the threat of habitat loss and fragmentation in order to increase population resiliency (ensure a large enough population to withstand stochastic events) and redundancy (a sufficient number of populations to ensure the species can withstand catastrophic events). Recovery of this species can be achieved by addressing the conservation of remaining aquatic and upland habitat that provides essential connectivity, reduces fragmentation, and sufficiently buffers against encroaching development and intensive agricultural land uses. Appropriate management of these areas will also reduce mortality by addressing non-habitat related threats, including those from non-native and hybrid tiger salamanders, other non-native species, contaminants, disease, and road mortality. Research and monitoring should be undertaken to determine the extent of known threats, identify new threats, and reduce them to the extent possible. As the Central California tiger salamander meets delisting criteria, we will review its status and consider it for removal from the Federal Lists of Endangered and Threatened Wildlife and Plants.

Public Comments Solicited

We invite written comments on the draft recovery plan. All comments received by the date specified in DATES will be considered in development of a final recovery plan for the Central California tiger salamander. You may submit written comments and information by mail or in person to the Sacramento Fish and Wildlife Office (see ADDRESSES).

Public Availability of Comments

Before including your address, phone number, email address, or other personal identifying information in your comment, you should be aware that your entire comment—including your personal identifying information—may be made publicly available at any time. While you can ask us in your comment to withhold your personal identifying information from public review, we cannot guarantee that we will be able to do so.

Authority

We developed this draft recovery plan under the authority of section 4(f) of the Act, 16 U.S.C. 1533(f). We publish this notice under section 4(f) of the Endangered Species Act of 1973, as amended (16 U.S.C. 1531 et seq.).

Alexandra Pitts,
Acting Regional Director, Pacific Southwest Region.

[FR Doc. 2016-05492 Filed 3-10-16; 8:45 am]

BILLING CODE 4333-15-P